DEPARTMENT OF THE INTERIOR

Bureau of Land Management

43 CFR Part 3830

[Docket No. BLM-2025-0202; A2407-014-004-065516; #O2412-014-004-047181.1]

RIN 1004-AF46

Revisions to Regulations Regarding Locating, Recording, and Maintaining Mining Claims or Sites—Introduction

AGENCY: Bureau of Land Management, Interior.

ACTION: Direct final rule; request for comments.

SUMMARY: This direct final rule (DFR) revises regulations containing general provisions related to requirements for locating, recording, and maintaining mining claims or sites under the Mining Law of 1872. This DFR updates terminology, clarifies language, and removes obsolete provisions.

DATES: This final rule is effective on November 3, 2025, unless significant adverse comments are received by October 2, 2025. If significant adverse comments are received, notice will be published in the Federal Register before the effective date either withdrawing the rule or issuing a new final rule that responds to any significant adverse comments.

ADDRESSES: You may submit comments by one of the following methods:

• Federal eRulemaking Portal: https://www.regulations.gov. In the Search box, enter the Docket Number “BLM-2025-0202” and click the “Search” button. Follow the instructions at this website.

• Mail, personal, or messenger delivery: U.S. Department of the Interior (Department), Director (630), Bureau of Land Management (BLM), 1849 C St. NW, Room 5646, Washington, DC 20240, Attention: 1004-AF46.

FOR FURTHER INFORMATION CONTACT: Kirk Rentmeister, National Mining Law Program Lead, telephone: 775-435-5514; email: krentmei@blm.gov. Individuals in the United States who are deaf, deafblind, hard of hearing, or have a speech disability may dial 711 (TTY, TDD, or TeleBraille) to access telecommunications relay services. Individuals outside the United States should use the relay services offered within their country to make international calls to the point-of-contact in the United States.

For a summary of the final rule, please see the abstract description of the document in Docket Number BLM-2025-0202 on www.regulations.gov.

SUPPLEMENTARY INFORMATION: General provisions of the Department's regulations implementing the requirements of the Mining Law, 30 U.S.C. 22-54, and the Federal Land Policy and Management Act, 43 U.S.C. 1744, are contained in 43 CFR part 3830, subpart A, “Introduction.” Sections 3830.1 and 3830.2 describe the purpose and scope of parts 3830 through 3839. Section 3830.3 specifies who may locate mining claims. Section 3830.5 provides definitions relevant to locating, recording, and maintaining mining claims, millsites and tunnel sites.

The Department notes that subpart A contains the term “service charge,” rather than the current term of “processing fee.” Because the “service charge” terminology is obsolete, the Department is revising these regulations to conform to current terminology and simplify the remaining wording. The Department has similarly determined that § 3830.1 should be revised due to obsolescence resulting from the fact that there are no longer any oil shale placer mining claims in the BLM's records. The reference to “oil shale claims” in § 3830.1(b)(4) will be removed.

The DFR also corrects inadvertent omissions and erroneous information, such as the incorrect description of minerals subject to disposal under the Mining Law (§ 3830.1(b)(5)); the erroneous use of “state” in the definition of “claimant” (§ 3830.5); the inadvertent omission of the President as having the authority to close lands to the operation of the Mining Law in the definition of “closed to mineral entry” (§ 3830.5); and the typographical errors in the definition of “split estate lands” (§ 3830.5). The DFR also amends the definition of “assessment year” to conform with longstanding statutory changes by removing the words “at 12 noon.” Additionally, the DFR also adds a cross-reference for the convenience of the public in the definition of “related party” in § 3830.5.

The Department has determined that these reasons, independently and alone, justify revision of 43 CFR part 3830 subpart A. The Department has no interest in maintaining regulations that are obsolete or unclear.

The Department is issuing this rule as a DFR. Although the Administrative Procedure Act (APA, 5 U.S.C. 551 through 559) generally requires agencies to engage in notice and comment rulemaking, section 553 of the APA provides an exception when the agency “for good cause finds” that notice and comment are “impracticable, unnecessary, or contrary to the public interest.” Id. section 553(b)(B). The Department has determined that notice and comment are unnecessary because this rule is noncontroversial; of a minor, technical nature; involves little agency discretion; and is unlikely to receive any significant adverse comments. Significant adverse comments are those that oppose the revision of the rule and raise, alone or in combination, (1) reasons why the revision of the rule is inappropriate, including challenges to the revision's underlying premise; or (2) serious unintended consequences of the revision. A comment recommending an addition to the rule will not be considered significant and adverse unless the comment explains how this DFR would be ineffective without the addition.

Procedural Matters

Executive Order (E.O.) 12866—Regulatory Planning and Review and E.O. 13563—Improving Regulation and Regulatory Review

E.O. 12866 provides that the Office of Information and Regulatory Affairs (OIRA) in the Office of Management and Budget (OMB) will review all significant rules. OIRA has determined that this rule is not significant.

E.O. 13563 reaffirms the principles of E.O. 12866, while calling for improvements in the Nation's regulatory system to promote predictability, reduce uncertainty, and use the best, most innovative, and least burdensome tools for achieving regulatory ends. E.O. 13563 directs agencies to consider regulatory approaches that reduce burdens and maintain flexibility and freedom of choice for the public where these approaches are relevant, feasible, and consistent with regulatory objectives. E.O. 13563 emphasizes further that agencies must base regulations on the best available science and that the rulemaking process must allow for public participation and an open exchange of ideas. The Department developed this rule in a manner consistent with these requirements.

Regulatory Flexibility Act

The Regulatory Flexibility Act (RFA, 5 U.S.C. 601 through 612) requires an agency to prepare a regulatory flexibility analysis for all rules unless the agency certifies that the rule will not have a significant economic impact on a substantial number of small entities. The RFA applies only to rules for which an agency is required to first publish a proposed rule. See 5 U.S.C. 603(a) and 604(a). As the Department is not required to publish a notice of proposed rulemaking for this DFR, the RFA does not apply.

Congressional Review Act

This rule is not a major rule under the Congressional Review Act, 5 U.S.C. 804(2). Specifically, the DFR: (a) will not have an annual effect on the economy of $100 million or more; (b) will not cause a major increase in costs or prices for consumers, individual industries, Federal, State, or local government agencies, or geographic regions; and (c) will not have significant adverse effects on competition, employment, investment, productivity, innovation, or on the ability of United States-based enterprises to compete with foreign-based enterprises in domestic and export markets.

Unfunded Mandates Reform Act

This rule does not impose an unfunded mandate on State, local, or Tribal governments, or the private sector, of more than $100 million per year. The rule does not have a significant or unique effect on State, local, or Tribal governments, or the private sector. The rule merely revises and clarifies obsolete regulatory language. Therefore, a statement containing the information required by the Unfunded Mandates Reform Act (2 U.S.C. 1531 et seq.) is not required.

E.O. 12630—Governmental Actions and Interference With Constitutionally Protected Property Rights

This rule does not result in a taking of private property or otherwise have regulatory takings implications under E.O. 12630. The rule revises and clarifies obsolete regulatory language; therefore, the rule will not result in private property being taken for public use without just compensation. A takings implication assessment is therefore not required.

E.O. 13132—Federalism

Under the criteria of section 1 of E.O. 13132, this rule does not have sufficient federalism implications to warrant the preparation of a federalism summary impact statement. This rule will not have substantial direct effects on the States, on the relationship between the national government and the States, or on the distribution of power and responsibilities among the various levels of government. A federalism summary impact statement is not required.

E.O. 12988—Civil Justice Reform

This DFR complies with the requirements of E.O. 12988. Among other things, this rule:

(a) Meets the criteria of section 3(a) requiring that all regulations be reviewed to eliminate errors and ambiguity and be written to minimize litigation;

(b) Meets the criteria of section 3(b)(2) requiring that all regulations be written in clear language and contain clear legal standards.

E.O. 13175—Consultation and Coordination With Indian Tribal Governments

The Department strives to strengthen its government-to-government relationship with Indian tribes through a commitment to consultation with Tribes and recognition of their right to self-governance and Tribal sovereignty. The Department evaluated this DFR under E.O. 13175 and the Department's consultation policies and determined that it has no substantial, direct effects on federally recognized Indian tribes and that consultation under the Department's Tribal consultation policies is not required. The rule merely revises and clarifies obsolete regulatory language.

Paperwork Reduction Act

OMB previously approved the information collection requirements contained in the existing regulations under OMB Control Number 1004-0114. This rule does not contain new or materially revised information collection requirements, and a submission to the OMB under the Paperwork Reduction Act of 1995 (44 U.S.C. 3501 et seq.) is not required.

National Environmental Policy Act (NEPA)

This DFR does not constitute a major Federal action significantly affecting the quality of the human environment. A detailed statement under NEPA (NEPA, 42 U.S.C. 4321 et seq.) is not required because this rule is covered by a categorical exclusion applicable to regulatory functions “that are of an administrative, financial, legal, technical, or procedural nature.” 43 CFR 46.210(i). In addition, the Department has determined that this rule does not involve any of the extraordinary circumstances listed in 43 CFR 46.215 that would require further analysis under NEPA.

E.O. 13211—Actions Concerning Regulations That Significantly Affect Energy Supply, Distribution, or Use

This DFR is not a significant energy action as defined in E.O. 13211. Therefore, a statement of energy effects is not required.

List of Subjects in 43 CFR Part 3830

Mineral royalties, Mines, Public lands—mineral resources, Reporting and recordkeeping requirements.

Adam G. Suess,
Acting Assistant Secretary, Land and Minerals Management.

For the reasons stated in the preamble, the Bureau of Land Management amends 43 CFR part 3830 as follows:

PART 3830—ADMINISTRATION OF MINING CLAIMS AND SITES; GENERAL PROVISIONS

1. The authority citation for part 3830 is revised to read as follows:

Authority: 18 U.S.C. 1001, 3571; 30 U.S.C. 22 et seq., 242, 611; 31 U.S.C. 9701; 43 U.S.C. 2, 1201, 1212, 1457, 1474, 1701 et seq.; 44 U.S.C. 3501 et seq.; 115 Stat. 414; 125 Stat. 786.

2. Revise the part heading to read as set forth above.

3. Revise § 3830.1 to read as follows:

§ 3830.1 What is the purpose of parts 3830-3839?

In this part 3830, references to “these regulations” are references to parts 3830 through 3839 of this chapter.

(a) These regulations describe the steps you, as a mining claimant, must take regarding mining claims or sites on the Federal lands under Federal law, to—

(1) Locate (see part 3832 of this chapter);

(2) Maintain (see parts 3834 through 3836 of this chapter);

(3) Amend (see part 3833, subpart B, of this chapter); and

(4) Transfer (see part 3833, subpart C, and part 3835, subpart B, of this chapter) mining claims or sites on the Federal lands under Federal law.

(b) These regulations apply to—

(1) Lode and placer mining claims (see part 3832, subpart B, of this chapter);

(2) Mill sites (see part 3832, subpart C, of this chapter);

(3) Tunnel sites (see part 3832, subpart D, of this chapter);

(4) Location of uncommon varieties of sand, stone, gravel, pumice, pumicite, and cinders;

(5) Delinquent co-claimants (see part 3837 of this chapter); and

(6) Mining claims and tunnel sites on Stockraising Homestead Act lands (see part 3838 of this chapter).

(c) In addition to these regulations, there are State law requirements that apply to you. If any State law conflicts with the requirements in these regulations, you must still comply with these regulations. These regulations do not describe State law requirements.

4. Amend § 3830.5 as follows:

a. In the definition of “Assessment year”, remove the text “at 12 noon”.

b. Revise the definitions of “Claimant” and “Closed to mineral entry”.

c. Add the definition of “Processing fee” in alphabetical order.

d. Revise the definition of “Related party”.

e. Remove the definition of “Service charge”.

f. In the definition of “Split estate lands”, remove the text “that,” and add the text “those” in its place, and add the text “the” before “United States”.

The revisions and addition read as follows:

§ 3830.5 Definitions.

* * * * *

Claimant means the person under Federal law who is the owner of all or any part of an unpatented mining claim or site. The claimant may be someone other than the person who originally located the claim or site.

Closed to mineral entry means the land is not available for the location of mining claims or sites because Congress, the President, the Secretary, or another surface managing agency has withdrawn or otherwise segregated the lands from operation of the General Mining Law.

* * * * *

Processing fee means the administrative nonrefundable fixed fee as shown in the table at § 3000.12 of this chapter under Mining Law Administration, which must be paid at the time documents are filed.

* * * * *

Related party means:

(1) The spouse and dependent children of the claimant as defined in 26 U.S.C. 152; or

(2) A person who controls, is controlled by, or is under common control with the claimant.

* * * * *

Split estate lands means those lands where the United States owns the mineral estate as part of the public domain, but not the surface.

* * * * *

[FR Doc. 2025-16754 Filed 8-29-25; 8:45 am]

BILLING CODE 4331-29-P